DEPARTMENT OF LABOR

Employment and Training Administration

[TA-W-63,816]

CPU2, LLC, Arden, NC; Notice of Termination of Investigation

Pursuant to Section 221 of the Trade Act of 1974, as amended, an investigation was initiated on August 5, 2008 in response to a worker petition filed by workers on behalf of workers of CPU2, LLC, Arden, North Carolina.

The petitioner has requested that the petition be withdrawn. Consequently, the investigation has been terminated.

Signed at Washington, DC this 7th day of August 2008.
Linda G. Poole,
Certifying Officer, Division of Trade Adjustment Assistance.

[FR Doc. E8-19187 Filed 8-18-08; 8:45 am]

BILLING CODE 4510-FN-P